NUCLEAR REGULATORY COMMISSION

[NRC-2009-0388]

Biweekly Notice; Applications and Amendments to Facility Operating Licenses Involving No Significant Hazards Considerations

I. Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from August 13, 2009, to August 26, 2009. The last biweekly notice was published on August 25, 2009 (74 FR 42926).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking and Directives Branch (RDB), TWB-05-B01M, Division of Administrative Services, Office of Administration, U.S. Nuclear Regulatory Commission, Washington, DC 20555-0001, and should cite the publication date and page number of this Federal Register notice. Written comments may also be faxed to the RDB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 28, 2007 (72 FR 49139). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the petitioner/requestor should contact the Office of the Secretary by e-mail at hearing.docket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory e-filing system may seek assistance through the “Contact Us” link located on the NRC Web site at http://www.nrc.gov/site-help/e-submittals.html or by calling the NRC Meta-System Help Desk, which is available between 8 a.m. and 8 p.m., Eastern Time, Monday through Friday, excluding government holidays. The Meta-System Help Desk can be contacted by telephone at 1-866-672-7640 or by e-mail at MSHD.Resource@nrc.gov.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the request and/or petition should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submissions.

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Dominion Nuclear Connecticut Inc., et al., Docket No. 50-423, Millstone Power Station, Unit No. 3, New London County, Connecticut

Date of amendment request: July 13, 2007, as supplemented July 13, September 12, November 19, December 13, and December 17, 2007; January 10 (4 letters), January 11 (4 letters), January 14, January 18 (5 letters), January 31, February 25 (2 letters), March 5, and September 30, 2008; March 5 and March 23, 2009.

Description of amendment request: The proposed license amendment request would revise the Millstone Power Station, Unit No. 3 (MPS3) spent fuel pool (SFP) storage requirements.

The July 13, 2007 license amendment request proposed a stretch power uprate (SPU) of MPS3. Included in a supplement dated July 13, 2007, was a request to amend the MPS3 SFP storage requirements. The July 13, 2007 request was noticed in the Federal Register on January 15, 2008 (73 FR 2549). By letter dated March 5, 2008, Dominion Nuclear Connecticut, Inc. (DNC) separated the MPS3 SFP storage requirements request from the MPS3 SPU request.

The request to revise the MPS3 SFP storage requirements is being re-noticed using the original significant hazards consideration, specific to the request to revise the SFP storage requirements, as provided by DNC in the July 13, 2007 license amendment request.

Basis for proposed no significant hazards consideration determination: As required by 10 CFR 50.91(a), the licensee has provided its analysis of the issue of no significant hazards consideration, which is presented below:

6.1.11.1 [Do the proposed changes] [i]nvolve a significant increase in the probability or consequences of an accident previously evaluated[?]

[Response: No]

As discussed in LR [license report] Section 2.8.6.2 [Spent Fuel Storage] and Westinghouse report WCAP-16721-NP “Spent Fuel Criticality Safety Analysis,” revised spent fuel pool criticality analyses were performed to take into account the potential for more reactive fuel at SPU conditions. There are three different regions defined in the MPS3 spent fuel pool.

• Region 1—350 storage locations

• Region 2—673 storage locations

• Region 3—756 storage locations

Because of the potential for requiring more fresh assemblies to be loaded in the core every cycle, some of the assemblies to be discharged to the spent fuel pool may not have sufficient burnup to meet the requirements of Region 2. It may be necessary to temporarily store the discharge assemblies in Region 1. To limit the time that these assemblies need to be stored in Region 1, additional curves have been added to TS [technical specification] Figure 3.9-3 that specify the burnup limits as a function of enrichment, burnup, and decay time. These decay time curves provide assurance that all spent fuel pool criticality limits will be met.

The spent fuel pool criticality analysis also shows that more limiting burnup requirements are necessary for Region 3 for the assemblies used at the uprate power level. Thus, a new curve is being added to address these requirements for Region 3.

With these changes, the spent fuel pool criticality analysis documented in LR Section 2.8.6.2 and WCAP-16721-NP, shows that the changes do not increase the consequences of any accident.

The new TS limitations provide assurance that the spent fuel pool will remain subcritical for all future cycles at the SPU condition and there is no increase in the probability of a criticality accident. Thus, the changes do not significantly increase the probability of any analyzed accident.

6.1.11.2 [Do the proposed changes] [c]reate the possibility of a new or different kind of accident from any accident previously evaluated[?]

[Response: No]

The changes will be implemented with existing spent pool racks. Thus, no new failure modes are introduced. The proposed additional requirements and the SPU fuel criticality analysis provide assurance that the spent fuel pool will remain subcritical for all uprate cycles. Thus, the changes do not create the possibility of a new or different accident.

6.1.11.3 [Do the proposed changes] [i]nvolve a significant reduction in a margin of safety[?]

[Response: No]

The analysis documented in LR Section 2.8.6.2 and WCAP-16721-NP shows that all spent fuel criticality limits are met and that there is no significant reduction in the margin of safety for the spent fuel pool.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resource Services, Inc., 120 Tredegar Street, RS-2, Richmond, VA 23219.

NRC Branch Chief: Harold K. Chernoff.

Exelon Generation Company, LLC, Docket Nos. STN 50-454 and STN 50-455, Byron Station, Unit Nos. 1 and 2, Ogle County, Illinois

Date of amendment request: June 30, 2009.

Description of amendment request: The proposed amendments would revise Technical Specification (TS) 3.7.9, “Ultimate Heat Sink (UHS),” to add additional essential service water (SX) cooling tower fan requirements as a function of SX pump discharge temperature to reflect the results of a revised analysis for the UHS.

Basis for proposed no significant hazards consideration determination: As required by 10 CFR 50.91(a), the licensee has provided its analysis of the issue of no significant hazards consideration, which is presented below:

1. Does the proposed change involve a significant increase in the probability or consequences of an accident previously evaluated?

Response: No.

The proposed change does not result in any physical changes to safety related structures, systems, or components. The UHS itself is not an accident initiator; rather, the UHS performs functions to mitigate accidents by serving as the heat sink for safety related equipment. Consequently, the proposed change does not increase the probability of occurrence for any accident previously evaluated.

The UHS plays a vital role in mitigating the consequences of any accident or transient. The proposed changes will ensure that the minimum conditions necessary for the UHS to perform its design functions will always be met. Engineering calculations demonstrate that the SX pump discharge design temperature limit of 100 °F, which was assumed as an initial input for the accident analyses, is preserved. Consequently, the proposed changes to cooling tower fan requirements, relative to the SX pump discharge temperature, do not increase the consequences of any accident previously evaluated.

Therefore, the proposed change does not involve a significant increase in the probability or consequences of an accident previously evaluated.

2. Does the proposed change create the possibility of a new or different kind of accident from any accident previously evaluated?

Response: No.

The supporting analyses for the proposed change do not involve a new or different kind of accident from any accident previously evaluated. The proposed limits on maximum SX pump discharge temperature, and the proposed fan requirements, are within the design capabilities of the UHS and ensure that the UHS will always be in a condition to perform its design function in the event of an accident or transient. New and revised analyses that support the requested TS changes ensure the full qualification of the UHS. No changes are being made to the physical design of the UHS such that the possibility of a new or different kind of accident would be created. Consequently, these changes do not create the possibility of a new or different kind of accident from those previously evaluated.

Therefore, the proposed change does not create the possibility of a new or different kind of accident from any accident previously evaluated.

3. Does the proposed change involve a significant reduction in a margin of safety?

Response: No.

The proposed limits on SX pump discharge maximum temperature are based on the results of new and revised design analyses that ensure that the margin of safety is not reduced. The new limits on temperature will ensure that, under the most limiting accident or transient scenario, cooling water will meet the accident analyses SX design temperature limit of 100 °F.

Therefore, the proposed change does not involve a significant reduction in a margin of safety.

The Nuclear Regulatory Commission (NRC) staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Generation Company, LLC, 4300 Winfield Road, Warrenville, IL 60555.

NRC Branch Chief: Stephen J. Campbell.

Exelon Generation Company, LLC, Docket Nos. 50-373 and 50-374, LaSalle County Station, Units 1 and 2, LaSalle County, Illinois

Date of amendment request: March 26, 2009.

Description of amendment request: The proposed amendments would revise the technical specification (TS) 3.5.1, “Emergency Core Cooling System (ECCS) Operating,” to delete the existing allowance associated with the automatic depressurization system (ADS) accumulator backup compressed gas system that currently allows a completion time of 72 hours to restore bottle pressure to ≥ 500 psig.

Basis for proposed no significant hazards consideration determination: As required by 10 CFR 50.91(a), the licensee has provided its analysis of the issue of no significant hazards consideration, which is presented below:

1. The proposed TS change does not involve a significant increase in the probability or consequences of an accident previously evaluated.

The proposed changes do not involve a significant increase in the probability of an accident previously evaluated. The ADS accumulator backup compressed gas system is designed to maintain the availability of a mitigation system. It is not recognized as the initiator of any accident. The failure of the ADS accumulator backup compressed gas system will not propagate into the onset of an analyzed event. As such, this proposed change does not involve a significant increase in the probability of an accident previously evaluated.

This proposed change does not involve a significant increase in the consequences of an accident previously evaluated. Deleting the existing allowance associated with the inoperability of the ADS accumulator backup compressed gas system provides assurance that the design function of the ADS SRVs [safety relief valves] assumed in the safety analyses will be achieved under all postulated conditions. The change that deletes the existing allowable completion time for an inoperable ADS accumulator backup compressed gas system is in the conservative direction and will revise the existing non-conservative TS to be consistent with existing licensing requirements for multiple inoperable ADS valves. Therefore, this proposed change will not increase the consequences of an accident previously evaluated in the UFSAR [updated final safety analysis report].

Based on the above information, the proposed change does not involve a significant increase in the probability or consequences of an accident previously evaluated.

2. The proposed TS change does not create the possibility of a new or different kind of accident from any accident previously evaluated.

The proposed change does not affect the control parameters governing unit operation or the response of plant equipment to transient conditions. The proposed change does involve the addition of a reserve nitrogen bottle that can be valved in during bottle replacement, however, during the short duration the reserve nitrogen bottle will be valved in the required minimum bottle pressure will be maintained at 1100 psig. The reserve bottle pressure requirement for this short duration ensures that the safety function of the ADS SRVs continues to be met.

Deleting the existing allowance associated with the inoperability of the ADS accumulator backup compressed gas system does not introduce any new or different modes of plant operation, nor does it affect the operational characteristics of any safety-related equipment or systems; as such, no new failure modes are being introduced. The proposed action provides assurance that the design function of the ADS SRVs assumed in the safety analyses will be achieved; and, therefore the LCO [limiting condition for operation] will be met. The change that deletes the existing allowable completion time for an inoperable ADS accumulator backup compressed gas system is in the conservative direction and will revise the existing non-conservative TS to be consistent with existing licensing requirements for multiple inoperable ADS valves.

Based on the above information, the proposed change does not create the possibility of a new or different kind of accident from any accident previously evaluated.

3. The proposed TS change does not involve a significant reduction in a margin of safety.

The margin of safety is determined by the design and qualification of the plant equipment, the operation of the plant within analyzed limits, and the point at which protective or mitigative actions are initiated. The modified TS and TRM [Technical Requirements Manual] will ensure sufficient nitrogen supply exists to support both the LLS [low-low setpoint] and ADS function of the SRVs plus assumed design leakage with no operator action.

The change that deletes the existing allowable completion time for an inoperable ADS accumulator backup compressed gas system is in the conservative direction and will revise the existing non-conservative TS to be consistent with existing licensing requirements for multiple inoperable ADS valves.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Mr. Bradley J. Fewell, Associate General Counsel, Exelon Nuclear, 4300 Winfield Road, Warrenville, IL 60555.

NRC Branch Chief: Stephen J. Campbell.

Florida Power Corporation, et al., Docket No. 50-302, Crystal River Unit 3 Nuclear Generating Plant, Citrus County, Florida

Date of amendment request: November 6, 2008, as revised by letter dated August 4, 2009.

Description of amendments request: The proposed change would revise the Crystal River Unit 3 Improved Technical Specifications Surveillance Requirements (SRs); SR 3.8.1.2, SR 3.8.1.6, and SR 3.8.1.10 to restrict the voltage and frequency limits for all emergency diesel generator (EDG) starts. The steady state voltage limits would be revised to be more restrictive (plus or minus 2 percent of the nominal voltage) to accurately reflect the appropriate calculation and the way the plant is operated and tested. The steady state frequency limits will be revised to be more restrictive (plus or minus 1 percent for all EDG starts) to ensure compliance with the plant design bases and the way the plant is operated. Additionally, SR 3.8.1.6 will be revised to clarify that the 10-second start verifies the capability of the EDG to pick up load, and is not the steady state condition. These changes will ensure that the EDGs are capable of supplying power, with the correct voltage and frequency, to the required electrical loads.

Basis for proposed no significant hazards consideration determination: As required by 10 CFR 50.91(a), the licensee has provided its analysis of the issue of no significant hazards consideration, which is presented below:

1. Does not involve a significant increase in the probability or consequences of an accident previously evaluated.

The LAR [license amendment request] proposes to provide more restrictive voltage and frequency limits for the Emergency Diesel Generators (EDGs) steady state operation. The voltage band is going from a range of greater than or equal to 3933 V [volts] but less than or equal to 4400 V, to greater than or equal to 4077 V but less than or equal to 4243 V. The proposed limits are plus or minus 2% [percent] around the nominal safety-related bus voltage of 4160 V. The Frequency Limits are going from a 2% tolerance band to a 1% tolerance band around the nominal frequency of 60 Hz [hertz] (59.4 Hz to 60.6 Hz) for all starts of the EDGs, at steady state conditions. For fast starts, the voltage and frequency limits at less than or equal to ten seconds will be consistent with the EDG ready matrix setpoints (90.8% voltage and 98% frequency) to allow for the overshoot and undershoot condition that exists while the voltage and frequency values converge on steady state conditions.

The EDGs are a safety-related system that functions to mitigate the impact of an accident with a concurrent loss of offsite power. A loss of offsite power is typically a significant contributor to postulated plant risk and, as such, onsite AC generators have to be maintained available and reliable in the event of a loss of offsite power event. The EDGs are not initiators for any analyzed accident, therefore; the probability for an accident that was previously evaluated is not increased by this change. The revised, voltage and frequency limits will ensure the EDGs will remain capable of performing their design function.

The consequences of an accident refer to the impact on both plant personnel and the public from any radiological release associated with the accident. The EDG supports equipment that is supposed to preclude any radiological release. More restrictive voltage and frequency limits for the output of the EDG restores design margin, and provides assurance that the equipment supplied by the EDG will operate correctly and within the assumed timeframe to perform their mitigating functions.

Until the proposed Crystal River Unit 3 (CR-3) Improved Technical Specifications (ITS) EDG voltage and frequency limits are approved by the NRC, administratively controlled limits have been established in accordance with NRC Administrative Letter 98-10 to ensure all EDG mitigation functions will be performed, per design, in the event of a loss of offsite power. These administrative limits have been determined as acceptable and have been incorporated into the surveillance test procedures under the provisions of'10 CFR 50.59. Periodic testing has been performed with acceptable results. Since EDGs are mitigating components and are not initiators for any analyzed accident, no increased probability of an accident can occur. Since administrative limits will ensure the EDGs will perform as designed, consequences will not be significantly affected.

2. Does not create the possibility of a new or different kind of accident from any accident previously evaluated.

Administrative voltage limits were established using verified design calculations and the guidance of NRC Administrative Letter 98-10. These administrative limits will ensure the EDGs will perform as designed. No new configuration is established by this change. The administrative limits for the EDG frequency were determined to be sufficient to account for measurement and other uncertainties.

The proposed amendment will place the administrative limits into the CR-3 ITS. The more restrictive voltage and frequency limits will provide additional assurance that the EDG can provide the necessary power to supply the required safety-related loads during an analyzed accident. The proposed ITS voltage and frequency limits restore the EDG capability to those analyzed by Engineering calculation. No new configuration is established. Therefore, no new or different kind of accident from any previously evaluated can be created.

3. Does not involve a significant reduction in a margin of safety.

The LAR proposes to provide more restrictive steady state voltage and frequency limits for the EDGs. The change in the acceptance criteria for specific surveillance testing provides assurance that the EDGs will be capable of performing their design function. Previous test history has shown that the new limits are well within the capability of the EDGs and are repeatable. The “as-left” settings for voltage and frequency will be adjusted such that they remain within a tight band and this ensures that the “as-found” settings will be in an acceptable tolerance band.

The proposed ITS limits on voltage and frequency will ensure that the EDG will be able to perform all design functions assumed in the accident analyses. Administrative limits are in place to ensure these parameters remain within analyzed limits. As such, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David T. Conley, Associate General Counsel II—Legal Department, Progress Energy Service Company, LLC, Post Office Box 1551, Raleigh, NC 27602.

NRC Branch Chief: Thomas H. Boyce.

Northern States Power Company—Minnesota, Docket Nos. 50-282 and 50-306, Prairie Island Nuclear Generating Plant, Units 1 and 2, Goodhue County, Minnesota

Date of amendment request: June 24, 2009.

Description of amendment request: The proposed amendments would modify Technical Specification (TS) requirements related to control room envelope (CRE) habitability in accordance with Technical Specification Task Force (TSTF) traveler TSTF-448 Revision 3, “Control Room Habitability,” per the consolidated line item improvement process (CLIIP).

The U.S. Nuclear Regulatory Commission (NRC) staff issued a notice of opportunity for comment in the Federal Register on October 17, 2006 (71 FR 61075), on possible amendments concerning this CLIIP, including a model safety evaluation and a model no significant hazards consideration (NSHC) determination. The NRC staff subsequently issued a notice of availability of the models for referencing in license amendment applications in the Federal Register on January 17, 2007 (72 FR 2022), as part of the CLIIP. In its application dated June 24, 2009, the licensee affirmed the applicability of the following determination.

Basis for proposed no significant hazards consideration determination: As required by 10 CFR 50.91(a), an analysis of the issue of no significant hazards consideration is presented below:

Criterion 1—The Proposed Change Does Not Involve a Significant Increase in the Probability or Consequences of an Accident Previously Evaluated

The proposed change does not adversely affect accident initiators or precursors nor alter the design assumptions, conditions, or configuration of the facility. The proposed change does not alter or prevent the ability of structures, systems, and components (SSCs) to perform their intended function to mitigate the consequences of an initiating event within the assumed acceptance limits. The proposed change revises the TS for the CRE emergency ventilation system, which is a mitigation system designed to minimize unfiltered air leakage into the CRE and to filter the CRE atmosphere to protect the CRE occupants in the event of accidents previously analyzed. An important part of the CRE emergency ventilation system is the CRE boundary. The CRE emergency ventilation system is not an initiator or precursor to any accident previously evaluated. Therefore, the probability of any accident previously evaluated is not increased. Performing tests to verify the operability of the CRE boundary and implementing a program to assess and maintain CRE habitability ensure that the CRE emergency ventilation system is capable of adequately mitigating radiological consequences to CRE occupants during accident conditions, and that the CRE emergency ventilation system will perform as assumed in the consequence analyses of design basis accidents. Thus, the consequences of any accident previously evaluated are not increased. Therefore, the proposed change does not involve a significant increase in the probability or consequences of an accident previously evaluated.

Criterion 2—The Proposed Change Does Not Create the Possibility of a New or Different Kind of Accident From any Accident Previously Evaluated

The proposed change does not impact the accident analysis. The proposed change does not alter the required mitigation capability of the CRE emergency ventilation system, or its functioning during accident conditions as assumed in the licensing basis analyses of design basis accident radiological consequences to CRE occupants. No new or different accidents result from performing the new surveillance or following the new program. The proposed change does not involve a physical alteration of the plant (i.e., no new or different type of equipment will be installed) or a significant change in the methods governing normal plant operation. The proposed change does not alter any safety analysis assumptions and is consistent with current plant operating practice. Therefore, this change does not create the possibility of a new or different kind of accident from an accident previously evaluated.

Criterion 3—The Proposed Change Does Not Involve a Significant Reduction in the Margin of Safety

The proposed change does not alter the manner in which safety limits, limiting safety system settings or limiting conditions for operation are determined. The proposed change does not affect safety analysis acceptance criteria. The proposed change will not result in plant operation in a configuration outside the design basis for an unacceptable period of time without compensatory measures. The proposed change does not adversely affect systems that respond to safely shut down the plant and to maintain the plant in a safe shutdown condition. Therefore, the proposed change does not involve a significant reduction in a margin of safety.

The NRC staff has reviewed the analysis adopted by the licensee and based on its review, it appears that the standards of 10 CFR 50.92(c) are satisfied. Therefore, the NRC staff proposes to determine that the amendment requests involve no significant hazards consideration.

Attorney for licensee: Peter M. Glass, Assistant General Counsel, Xcel Energy Services, Inc., 414 Nicollet Mall, Minneapolis, MN 55401.

NRC Branch Chief: Lois M. James.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Exelon Generation Company, LLC, Docket Nos. STN 50-454 and STN 50-455, Byron Station, Unit Nos. 1 and 2, Ogle County, Illinois

Docket Nos. STN 50-456 and STN 50-457, Braidwood Station, Units 1 and 2, Will County, Illinois.

Date of amendment request: June 24, 2009.

Brief description of amendment request: The proposed amendment would permanently revise Technical Specification (TS) 5.5.9, “Steam Generator (SG) Program,” to exclude portions of the tube below the top of the SG tubesheet from periodic SG tube inspections and plugging or repair. In addition, this amendment would revise the wording of reporting requirements in TS 5.6.9, “Steam Generator (SG) Tube Inspection Report.” The proposed changes only affect Byron, Unit No. 2, and Braidwood, Unit 2; however, this action is docketed for both Byron and Braidwood units because the TS are common to Units 1 and 2.

Date of publication of individual notice in Federal Register: July 31, 2009 (74 FR 38234).

Expiration date of individual notice: August 30, 2009 (public comment); September 29, 2009 (hearing requests).

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area O1F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Arizona Public Service Company, et al., Docket Nos. STN 50-528, STN 50-529, and STN 50-530, Palo Verde Nuclear Generating Station, Unit Nos. 1, 2, and 3, Maricopa County, Arizona

Date of application for amendment: August 29, 2008, as supplemented by letters dated March 5 and August 7, 2009.

Brief description of amendment: The amendments modified Technical Specification (TS) 5.6.5, “Core Operating Limits Report (COLR),” by updating the list of references in TS 5.6.5.b to reflect the current analytical methods used to determine the core operating limits for Palo Verde Nuclear Generating Station Units 1, 2, and 3.

Date of issuance: August 26, 2009.

Effective date: As of the date of issuance and shall be implemented within 90 days from the date of issuance.

Amendment No.: Unit 1-174; Unit 2-174; Unit 3-174.

Facility Operating License Nos. NPF-41, NPF-51, and NPF-74: The amendment revised the Operating Licenses and Technical Specifications.

Date of initial notice in Federal Register: November 4, 2008 (73 FR 65688). The supplemental letters dated March 5 and August 7, 2009, provided additional information that clarified the application, did not expand the scope of the application as originally noticed, and did not change the NRC staff's original proposed no significant hazards consideration determination as published in the Federal Register.

The Commission's related evaluation of the amendments is contained in a Safety Evaluation dated August 26, 2009.

No significant hazards consideration comments received: No.

Duke Power Company LLC, Docket Nos. 50-369 and 50-370, McGuire Nuclear Station, Units 1 and 2, Mecklenburg County, North Carolina

Date of application for amendments: August 21, 2008.

Brief description of amendments: The amendments implement Technical Specification Task Force (TSTF) Changes Travelers TSTF-479, Revision 0, “Changes to Reflect Revision of [Title 10 of the Code of Federal Regulations] 10 CFR 50.55a,” and TSTF-497, Revision 0, “Limit Inservice Testing [IST] Program SR [Surveillance Requirements] 3.0.2 Application to Frequencies of 2 Years or Less.” TSTF-479 and TSTF-497 revise the technical specification's Administrative Controls section pertaining to requirements for the IST Program, consistent with the requirements of 10 CFR 50.55a(f)(4) for pumps and valves which are classified as American Society of Mechanical Engineers (ASME), Boiler and Pressure Vessel Code Class 1, Class 2, and Class 3.

Date of issuance: August 17, 2009.

Effective date: As of the date of issuance and shall be implemented within 60 days from the date of issuance.

Amendment Nos.: 252 and 232.

Renewed Facility Operating License Nos. NPF-9 and NPF-17: Amendments revised the licenses and the technical specifications.

Date of initial notice in Federal Register: April 3, 2009 (74 FR 18253).

The Commission's related evaluation of the amendments is contained in a Safety Evaluation dated August 17, 2009.

No significant hazards consideration comments received: No.

Energy Northwest, Docket No. 50-397, Columbia Generating Station, Benton County, Washington

Date of application for amendment: September 9, 2008, as supplemented by letter dated April 24, 2009.

Brief description of amendment: This amendment modified Technical Specification 3.3.6.1, “Primary Containment Isolation Instrumentation,” to lower the Group 1 isolation valves reactor water level isolation signal from Level 2 to Level 1.

Date of issuance: August 18, 2009.

Effective date: As of its date of issuance and shall be implemented prior to entry into Mode 2 during startup from refueling outage 20.

Amendment No.: 214.

Facility Operating License No. NPF-21: The amendment revised the Facility Operating License and Technical Specifications.

Date of initial notice in Federal Register: December 2, 2008 (73 FR 73353). The supplemental letter dated April 24, 2009, provided additional information that clarified the application, did not expand the scope of the application as originally noticed, and did not change the staff's original proposed no significant hazards consideration determination as published in the Federal Register.

The Commission's related evaluation of the amendment is contained in a Safety Evaluation dated August 18, 2009.

No significant hazards consideration comments received: No.

Entergy Nuclear Operations, Inc., Docket No. 50-247, Indian Point Nuclear Generating Unit No. 2, Westchester County, New York

Date of application for amendment: March 5, 2009, as supplemented by letters dated April 17 and June 22, 2009.

Brief description of amendment: The amendment updates the reactor vessel heatup and cooldown limit curves and the low-temperature over-pressure protection curves.

Date of issuance: August 17, 2009.

Effective date: As of the date of issuance, and shall be implemented within 30 days.

Amendment No.: 262.

Facility Operating License No. DPR-26: The amendment revised the License and the Technical Specifications.

Date of initial notice in Federal Register: May 19, 2009 (74 FR 23443). The April 17 and June 22, 2009, supplements provided additional information that clarified the application, did not expand the scope of the application as originally noticed, and did not change the NRC staff's original proposed no significant hazards consideration determination as published in the Federal Register.

The Commission's related evaluation of the amendment is contained in a Safety Evaluation dated August 17, 2009.

No significant hazards consideration comments received: No.

FPL Energy Seabrook, LLC, Docket No. 50-443, Seabrook Station, Unit No. 1, Rockingham County, New Hampshire

Date of amendment request: April 16, 2009.

Description of amendment request: This amendment changes the name of the Licensee and Co-owner from “FPL Energy Seabrook, LLC” to “NextEra Energy Seabrook, LLC.”

Date of issuance: August 21, 2009.

Effective date: As of its date of issuance and shall be implemented within 30 days.

Amendment No.: 122.

Facility Operating License No. NPF-86: The amendment revised the License, Appendix B—Environmental Protection Plan, and Appendix C—Additional Conditions.

Date of initial notice in Federal Register: June 2, 2009 (74 FR 26434).

The Commission's related evaluation of the amendment is contained in a Safety Evaluation dated August 21, 2009.

No significant hazards consideration comments received: No.

Nine Mile Point Nuclear Station, LLC, Docket No. 50-410, Nine Mile Point Nuclear Station, Unit No. 2 (NMP2), Oswego County, New York

Date of application for amendment: March 9, 2009.

Brief description of amendment: The amendment revises the Technical Specification (TS) testing frequency for the Surveillance Requirement (SR) in TS 3.1.4, “Control Rod Scram Times,” by extending the frequency of SR 3.1.4.2, from “120 days cumulative operation in Mode 1” to “200 days cumulative operation in Mode 1.” This change is based on Nuclear Regulatory Commission-approved TS Task Force (TSTF) Change Traveler, TSTF-460-A, Revision 0, “Control Rod Scram Time Testing Frequency.” These changes were described in a Notice of Availability for Consolidated Line Item Improvement Process published in the Federal Register on August 23, 2004 (69 FR 51864).

Date of issuance: August 19, 2009.

Effective date: As of the date of issuance to be implemented within 60 days.

Amendment No.: 132.

Renewed Facility Operating License No. NPF-069: The amendment revises the License and TSs.

Date of initial notice in Federal Register: May 19, 2009 (74 FR 23447).

The Commission's related evaluation of the amendment is contained in a Safety Evaluation dated August 19, 2009.

No significant hazards consideration comments received: No.

Northern States Power Company—Minnesota, LLC, Docket No. 50-263, Monticello Nuclear Generating Plant, Wright County, Minnesota

Date of application for amendment: April 15, 2009.

Brief description of amendment: The amendment revised the MNGP Technical Specifications (TS), deleting paragraph d (regarding limitation of working hours of personnel who perform safety-related functions) of TS 5.2.2, “Unit Staff.”

Date of issuance: August 19, 2009.

Effective date: As of the date of issuance and shall be implemented by October 1, 2009.

Amendment No.: 163.

Facility Operating License No. DPR-22. Amendment revised the Facility Operating License and Technical Specifications.

Date of initial notice in Federal Register: June 16, 2009 (74 FR 28578).

The Commission's related evaluation of the amendment is contained in a Safety Evaluation dated August 19, 2009.

No significant hazards consideration comments received: No.

Northern States Power Company—Minnesota, Docket Nos. 50-282 and 50-306, Prairie Island Nuclear Generating Plant, Units 1 and 2, Goodhue County, Minnesota

Date of application for amendments: April 15, 2009.

Brief description of amendments: The amendments delete those portions of the Technical Specifications superseded by Title 10 of the Code of Federal Regulations Part 26, Subpart I.

Date of issuance: August 19, 2009.

Effective date: As of the date of issuance and shall be implemented by October 1, 2009.

Amendment Nos.: 193, 182.

Facility Operating License Nos. DPR-42 and DPR-60: Amendments revised the Technical Specifications.

Date of initial notice in Federal Register: June 16, 2009 (74 FR 28578).

The Commission's related evaluation of the amendments is contained in a Safety Evaluation dated August 19, 2009.

No significant hazards consideration comments received: No.

Pacific Gas and Electric Company, Docket Nos. 50-275 and 50-323, Diablo Canyon Nuclear Power Plant, Unit Nos. 1 and 2 (DCPP), San Luis Obispo County, California

Date of application for amendments: May 5, 2009.

Brief description of amendments: The amendments revised the DCPP Technical Specification (TS) 5.2.2, “Unit Staff,” to eliminate working hour restrictions in paragraph d of TS 5.2.2 to support compliance with Title 10 of the Code of Federal Regulations (10 CFR) Part 26. The change is consistent with U.S. Nuclear Regulatory Commission (NRC)-approved Revision 0 to TS Task Force (TSTF) Improved Technical Specification change traveler, TSTF-511, “Eliminate Working Hour Restrictions from TS 5.2.2 to Support Compliance with 10 CFR Part 26.” The availability of this TS improvement was announced in the Federal Register on December 30, 2008 (73 FR 79923), as part of the consolidated line item improvement process.

Date of issuance: August 19, 2009.

Effective date: As of its date of issuance and shall be implemented by October 1, 2009.

Amendment Nos.: Unit 1-206; Unit 2-207.

Facility Operating License Nos. DPR-80 and DPR-82: The amendments revised the Facility Operating Licenses and Technical Specifications.

Date of initial notice in Federal Register: June 16, 2009 (74 FR 28579).

The Commission's related evaluation of the amendments is contained in a Safety Evaluation dated August 19, 2009.

No significant hazards consideration comments received: No.

R.E. Ginna Nuclear Power Plant, LLC, Docket No. 50-244, R.E. Ginna Nuclear Power Plant, Wayne County, New York

Date of application for amendment: December 4, 2008.

Brief description of amendment: The amendment revises the Technical Specifications to allow refueling operations with both containment personnel interlock doors to be open under administrative control consistent with Technical Specification Task Force (TSTF) Travelers TSTF-68 and TSTF-312. In support of this amendment request, the licensee recalculated the fuel gas gap fractions for its design-basis fuel handling accident and has justified a shorter decay time of 72 hours utilizing the alternative source term methodology.

Date of issuance: August 12, 2009

Effective date: As of the date of issuance to be implemented within 30 days.

Amendment No.: 107

Renewed Facility Operating License No. DPR-18: Amendment revised the License and Technical Specifications.

Date of initial notice in Federal Register: March 10, 2009 (74 FR 10311)

The Commission's related evaluation of the amendment is contained in a Safety Evaluation dated August 12, 2009.

No significant hazards consideration comments received: No.

R.E. Ginna Nuclear Power Plant, LLC, Docket No. 50-244, R.E. Ginna Nuclear Power Plant, Wayne County, New York

Date of application for amendment: March 23, 2009.

Brief description of amendment: The amendment deletes paragraph d of Technical Specification (TS) 5.2.2, “Plant Staff.” The amendment is consistent with Nuclear Regulatory Commission approved Revision 0 to the Technical Specification Task Force (TSTF) Improved Standard Technical Specification Change Traveler, TSTF-511, “Eliminate Working Hour Restrictions from TS 5.2.2 to Support Compliance with 10 CFR [Title 10 of the Code of Federal Regulations] Part 26.” The availability of this TS improvement was announced in the Federal Register on December 30, 2008 (73 FR 79923) as part of the consolidated line item improvement process.

Date of issuance: August 12, 2009.

Effective date: As of the date of issuance to be implemented with the implementation of the new 10 CFR Part 26, Subpart I requirements.

Amendment No.: 108.

Renewed Facility Operating License No. DPR-18: Amendment revised the License and Technical Specifications.

Date of initial notice in Federal Register: April 21, 2009 (74 FR 18256).

The Commission's related evaluation of the amendment is contained in a Safety Evaluation dated August 12, 2009.

No significant hazards consideration comments received: No.

STP Nuclear Operating Company, Docket Nos. 50-498 and 50-499, South Texas Project, Units 1 and 2, Matagorda County, Texas

Date of amendment request: March 3, 2009.

Brief description of amendments: The amendments revised the Technical Specifications (TS) to eliminate working hour restrictions from TS 6.2.2 to support compliance with Title 10 of the Code of Federal Regulations (10 CFR) Part 26. The request is consistent with the guidance contained in the U.S. Nuclear Regulatory Commission (NRC)-approved TS Task Force (TSTF) Improved Standard Technical Specification change traveler, TSTF-511, Revision 0, “Eliminate Working Hour Restrictions from TS 5.2.2 to Support Compliance with 10 CFR Part 26.” The availability of this improvement was announced in the Federal Register on December 30, 2008 (73 FR 79923), as part of the Consolidated Line Item Improvement Process.

Date of issuance: August 18, 2009.

Effective date: As of the date of issuance and shall be implemented by October 1, 2009.

Amendment Nos.: Unit 1-192; Unit 2-180.

Facility Operating License Nos. NPF-76 and NPF-80: The amendments revised the Facility Operating Licenses and Technical Specifications.

Date of initial notice in Federal Register: June 16, 2009 (74 FR 28579).

The Commission's related evaluation of the amendments is contained in a Safety Evaluation dated August 18, 2009.

No significant hazards consideration comments received: No.

Tennessee Valley Authority, Docket Nos. 50-259, 50-260, and 50-296, Browns Ferry Nuclear Plant, Units 1, 2, and 3, Limestone County, Alabama

Date of application for amendments: March 27, 2008, as supplemented by letters dated December 19, 2008, February 9, April 24, and May 26, 2009.

Description of amendment request: The amendments revised the technical specifications (TSs) to adopt the content of Technical Specification Task Force (TSTF) change traveler TSTF448, Revision 3, “Control Room Habitability.” Specifically, the amendments revised TS 3.7.3, “Control Room Emergency Ventilation (CREV) System,” and added TS 5.5.13, “Control Room Envelope Habitability Program.” The amendments also added a new license condition regarding initial performance of the new surveillance and assessment requirements of the revised TSs.

Date of issuance: August 18, 2009.

Effective date: Date of issuance, to be implemented within 60 days.

Amendment Nos.: 275, 302, and 261.

Renewed Facility Operating License Nos. DPR-33, DPR-52, and DPR-68: Amendments revised the Licenses and Technical Specifications.

Date of initial notice in Federal Register: August 26, 2008 (73 FR 50362) and revised on January 27, 2009 (74 FR 4775). The supplements dated February 9, April 24, and May 26, 2009, provided additional information that clarified the application, did not expand the scope of the application as originally noticed, and did not change the staff's original proposed no significant hazards consideration determination as published in the Federal Register.

The Commission's related evaluation of the amendment is contained in a Safety Evaluation dated August 18, 2009.

No significant hazards consideration comments received: No.

Tennessee Valley Authority, Docket Nos. 50-327 and 50-328, Sequoyah Nuclear Plant, Units 1 and 2, Hamilton County, Tennessee

Date of application for amendments: October 21, 2008.

Brief description of amendments: The amendments revised Sequoyah Nuclear Plant's Updated Final Safety Analysis Report (UFSAR) to require an inspection of each ice condenser within 24 hours of experiencing a seismic event greater than or equal to an operating basis earthquake (i.e., ½ of a safe shutdown earthquake) within the 5-week period after ice basket replenishment is completed. This will confirm that ice condenser lower inlet doors have not been blocked by ice fallout.

The proposed amendments provided a procedural requirement to confirm the ice condenser maintains the ice condenser generic qualification as set forth in the UFSAR. Justification for the use of the proposed procedural requirement is based on reasonable assurance that the ice condenser lower inlet doors will open following a seismic event during the 5-week period and the low probability of a seismic event occurring coincident with or subsequently followed by a design basis accident.

Date of issuance: August 14, 2009.

Effective date: As of the date of issuance and shall be implemented within 60 days of issuance. The UFSAR changes shall be implemented in the next periodic update made in accordance with 10 CFR 50.71(e).

Amendment Nos.: 325 and 317.

Facility Operating License Nos. DPR-77 and DPR-79: Amendments changed the licenses.

Date of initial notice in Federal Register: January 13, 2009 (74 FR 1715).

The Commission's related evaluation of the amendments is contained in a Safety Evaluation dated August 14, 2009.

No significant hazards consideration comments received: No.

Dated at Rockville, Maryland, this 27th day of August, 2009.
For The Nuclear Regulatory Commission.
Joseph G. Giitter,
Director, Division of Operating Reactor Licensing, Office of Nuclear Reactor Regulation.

[FR Doc. E9-21389 Filed 9-4-09; 8:45 am]

BILLING CODE 7590-01-P